DEPARTMENT OF HOMELAND SECURITY

Coast Guard

[Docket No. USCG-2012-0458]

Towing Safety Advisory Committee; Vacancies

AGENCY: Coast Guard, DHS.

ACTION: Request for applications.

SUMMARY: The Coast Guard seeks applications for membership on the Towing Safety Advisory Committee (TSAC). This Committee advises the Secretary of Homeland Security on matters relating to shallow-draft inland and coastal waterway navigation and towing safety.

DATES: Applicants should submit a cover letter and resume in time to reach Patrick Mannion, the Alternate Designated Federal Officer (ADFO) on or before July 13, 2012.

ADDRESSES: If you wish to apply for membership, your resume should be submitted by one of the following methods:

• E-mail: Patrick.J.Mannion@uscg.mil.

• Fax: (202) 372-1926 ATTN: Mr. Patrick Mannion, TSAC ADFO.

• Mail: Mr. Patrick Mannion, TSAC ADFO, Commandant (CG-5222), U.S. Coast Guard, 2100 Second St. SW., STOP 7126, Washington, DC 20593-7126.

FOR FURTHER INFORMATION CONTACT: Commander Rob Smith, Designated Federal Officer (DFO) of the Towing Safety Advisory Committee (TSAC), 202-372-1410, Robert.L.Smith@uscg.mil or Patrick Mannion, Alternate Designated Federal Officer of Towing Safety Advisory Committee (TSAC); telephone 202-372-1439; fax 202-372-1926; or email at Patrick.J.Mannion@uscg.mil.

SUPPLEMENTARY INFORMATION: The TSAC is a Federal advisory committee established in accordance with the provisions of the Federal Advisory Committee Act (FACA) 5 U.S.C. (Pub. L. 92-463) and under the authority of Title 33, United States Code, section 1231a, as amended by section 621 of the Coast Guard Authorization Act of 2010 (Pub. L. 111-281). The Committee advises the Secretary of Homeland Security on matters relating to shallow-draft inland and coastal waterway navigation and towing safety. See 33 U.S.C. 1321a.

Normally, the Committee is expected to meet at least twice a year either in the Washington DC area or in a city with large towing centers of commerce and populated by high concentrations of towing industry and related businesses. The Committee may also be called to meet for extraordinary purposes. Subcommittees and workgroups may conduct intercessional telephonic meetings when necessary for specific tasking.

As specified in 33 U.S.C. 1231a, the Committee is to consist of 18 members:

○ Seven members representing the Barge and Towing industry (reflecting a regional geographical balance);

○ One member representing the offshore mineral and oil supply vessel industry;

○ One member representing holders of active licensed Masters or Pilots of towing vessels with experience on the Western Rivers and the Gulf Intracoastal Waterway.

○ One member representing the holders of active licensed Masters of towing vessels in offshore service.

○ One member representing Masters who are active ship-docking or harbor towing vessel.

○ One member representing licensed or unlicensed towing vessel engineers with formal training and experience.

○ Two members representing each of the following groups:

Port districts, authorities, or terminal operators;

Shippers (of whom at least one shall be engaged in the shipment of oil or hazardous materials by barge);

○ Two members representing the General Public.

We will consider applicants for five positions that expire or become vacant on September 30, 2012:

• Two representatives from the Barge and Towing industry;

• One representative from the offshore mineral and oil supply vessel industry;

• One representative from shippers; and

• One member from the general public.

To be eligible, applicants should have expertise, knowledge, and experience relative to the position in the towing industry, marine transportation, or business operations associated with shallow-draft inland and coastal waterway navigation and towing safety. If you are selected as a non-representative member, or as a member who represents the general public, you will be appointed and serve as a Special Government Employee (SGE) as defined in section 202(a) of title 18, United States Code. As a candidate for appointment as a SGE, applicants are required to complete a Confidential Financial Disclosure Report (OGE Form 450). Coast Guard may not release the reports or the information in them to the public except under an order issued by a Federal court or as otherwise provided under the Privacy Act (5 U.S.C. 552a). Applicants can obtain this form by going to the Web site of the Office of Government Ethics (www.oge.gov), or by contacting the individual listed above. Applications which are not accompanied by a completed OGE Form 450 will not be considered.

Each member serves for a term of up to 3 years. Members may be considered to serve consecutive terms. All members serve at their own expense and receive no salary, or other compensation from the Federal Government. The exception to this policy is the possible reimbursement of travel and per diem expenses depending on fiscal budgetary constraints.

Registered lobbyists are not eligible to serve on Federal advisory committees. Registered lobbyists are lobbyists required to comply with provisions contained in the Lobbying Disclosure Act of 1995 (Pub. L. 104-65, as amended by Title II of Pub. L. 110-81.

The Department of Homeland Security (DHS) does not discriminate in employment on the basis of race, color, religion, sex, national origin, political affiliation, sexual orientation, gender identity, marital status, disability and genetic information, age, membership in an employee organization, or other non-merit factor. DHS strives to achieve a widely diverse candidate pool for all of its recruitment actions.

To visit our online docket, go to http://www.regulations.gov, enter the docket number for this notice (USCG-2012-0458) in the Search box, and press Enter.” Please do not post your resume on this site. During the vetting process, applicants may be asked to provide date of birth and social security number.

Dated: May 21, 2012.
F.J. Sturm,
Acting Director of Commercial Regulations and Standards.

[FR Doc. 2012-12874 Filed 5-25-12; 8:45 am]

BILLING CODE 9110-04-P